Title 3—

The President

Proclamation 10316 of November 30, 2021

National Impaired Driving Prevention Month, 2021

By the President of the United States of America

A Proclamation

Every year, thousands of lives are needlessly lost on our Nation's roadways because of alcohol—and drug-impaired driving. These are avoidable tragedies that leave deep holes in our Nation's families and communities. During National Impaired Driving Prevention Month, we reaffirm our commitment to preventing impaired driving. We remember the victims and honor their memory by making the responsible decision to drive sober and ensure that others do the same.

Driving while impaired by any substance—legal or illegal—is dangerous. Alcohol, illicit drugs, and even over-the-counter and prescription medications can impair a driver's judgment, decrease motor coordination, and slow the reaction time necessary to safely operate a motor vehicle. Alcohol-impaired driving has led to over 10,000 deaths each year.

My Administration is committed to reducing the number of impaired drivers and raising awareness about the dangers of driving impaired. The new Infrastructure Investment and Jobs Act calls for the National Highway Traffic Safety Administration to issue a new standard for “advanced drunk and impaired driving prevention technology” for new vehicles, which would help prevent impaired drivers from taking the wheel.

My Administration is building our capacity to end impaired driving by supporting innovative strategies that reduce impaired driving-related crashes, injuries, and fatalities while safeguarding against bias and ensuring racial equity. To identify and support people with substance use disorders, we are increasing impaired driving risk screening, supporting evidence-based prevention programs, and providing access to evidence-based treatment and recovery support services. My Administration is also raising awareness about the effects of impairment on driving ability through the Drive Sober or Get Pulled Over and If You Feel Different, You Drive Different national media campaigns.

While our technology continues to advance and may one day help solve the problem of impaired driving, everyone must take individual responsibility and pledge to never drive while impaired and to deter others from making that fateful decision.

During National Impaired Driving Prevention Month, we recommit ourselves to doing all we can to stop these preventable crashes and remember those who lost their lives as a result of impaired driving. We must also share our appreciation for the law enforcement officers who risk their lives each day to keep our communities safe while keeping impaired drivers off of our roadways.

NOW, THEREFORE, I, JOSEPH R. BIDEN JR., President of the United States of America, by virtue of the authority vested in me by the Constitution and the laws of the United States, do hereby proclaim December 2021 as National Impaired Driving Prevention Month. I urge all Americans to make responsible decisions and take appropriate measures to prevent impaired driving.

IN WITNESS WHEREOF, I have hereunto set my hand this thirtieth day of November, in the year of our Lord two thousand twenty-one, and of the Independence of the United States of America the two hundred and forty-sixth.

[FR Doc. 2021-26456

Filed 12-2-21; 11:15 am]

Billing code 3395-F2-P